COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes products from the Procurement List previously furnished by nonprofit agencies employing persons who are blind or have other severe disabilities.

DATES: Date deleted from the Procurement List: 9/24/2017.

ADDRESSES: Committee for Purchase From People Who Are Blind or Severely Disabled, 1401 S. Clark Street, Suite 715, Arlington, Virginia 22202-4149.

FOR FURTHER INFORMATION CONTACT: Amy B. Jensen, Telephone: (703) 603-7740, Fax: (703) 603-0655, or email CMTEFedReg@AbilityOne.gov.

SUPPLEMENTARY INFORMATION:

Deletions

On 7/21/2017 (82 FR 33872-33873), the Committee for Purchase From People Who Are Blind or Severely Disabled published notice of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN(s)—Product Name(s):

8925-01-E62-1749—Walnuts, English, Shelled, Halves and Pieces, 2.75 lb.

8925-01-E62-1745—Almonds, Shelled, Sliced, Natural

8925-01-E62-1746—Almonds, Shelled, Sliced, Blanched

8925-01-E62-1747—Almonds, Shelled, Slivered, Blanched

8925-01-E62-1748—Walnuts, English, Shelled, Halves and Pieces, 2 lb.

Mandatory Source(s) of Supply: Transylvania Vocational Services, Inc., Brevard, NC

Contracting Activity: Defense Logistics Agency Troop Support

NSN(s)—Product Name(s):

7210-01-076-1087—Mattress, Bed, Innerspring, Type III, Firm, White with Blue Stripes, 36″ x 75″

7210-01-076-1082—Mattress, Bed, Innerspring, Type III, Firm, White with Blue Stripes, 36″ x 80″

7210-01-076-1083—Mattress, Bed, Innerspring, Type III, Firm, White with Blue Stripes, 39″ x 78″

7210-01-076-8359—Mattress, Bed, Innerspring, Type III, Extra Firm, White with Blue Stripes, 38″ x 80″

7210-01-076-9031—Mattress, Bed, Innerspring, Type III, Firm, White with Blue Stripes, 29″ x 76″

7210-01-078-2593—Mattress, Bed, Innerspring, Type III, Firm, White with Blue Stripes, 36″ x 78″

7210-01-177-1492—Mattress, Bed, Innerspring, Type II, Firm, White with Blue Stripes, 36″ x 80″

7210-01-177-1494—Mattress, Bed, Innerspring, Type II, Firm, White with Blue Stripes, 38″ x 75″

7210-01-177-1495—Mattress, Bed, Innerspring, Type II, Firm, White with Blue Stripes, 38″ x 80″

7210-01-177-1497—Mattress, Bed, Innerspring, Type II, Firm, White with Blue Stripes, 53″ x 75″

7210-01-177-1498—Mattress, Bed, Innerspring, Type II, Extra Firm, White with Blue Stripes, 29″ x 76″

7210-01-177-1499—Mattress, Bed, Innerspring, Type II, Extra Firm, White with Blue Stripes, 36″ x 75″

7210-01-177-1500—Mattress, Bed, Innerspring, Type II, Extra Firm, White with Blue Stripes, 36″ x 78″

7210-01-177-1501—Mattress, Bed, Innerspring, Type II, Extra Firm, White with Blue Stripes, 36″ x 80″

7210-01-177-1503—Mattress, Bed, Innerspring, Type II, Extra Firm, White with Blue Stripes, 38″ x 75″

7210-01-177-1504—Mattress, Bed, Innerspring, Type II, Extra Firm, White with Blue Stripes, 38″ x 80″

7210-01-177-1505—Mattress, Bed, Innerspring, Type II, Extra Firm, White with Blue Stripes, 39″ x 78″

7210-01-177-1506—Mattress, Bed, Innerspring, Type II, Extra Firm, White with Blue Stripes, 53″ x 75″

7210-01-177-1507—Mattress, Bed, Innerspring, Type III, Regular, White with Blue Stripes, 29″ x 76″

7210-01-177-1508—Mattress, Bed, Innerspring, Type III, Regular, White with Blue Stripes, 36″ x 75″

7210-01-177-1509—Mattress, Bed, Innerspring, Type III, Regular, White with Blue Stripes, 36″ x 78″

7210-01-177-1510—Mattress, Bed, Innerspring, Type III, Regular, White with Blue Stripes, 36″ x 80″

7210-01-177-1512—Mattress, Bed, Innerspring, Type III, Regular, White with Blue Stripes, 38″ x 75″

7210-01-177-1513—Mattress, Bed, Innerspring, Type III, Regular, White with Blue Stripes, 38″ x 80″

7210-01-177-1514—Mattress, Bed, Innerspring, Type III, Regular, White with Blue Stripes, 39″ x 78″

7210-01-177-1515—Mattress, Bed, Innerspring, Type III, Regular, White with Blue Stripes, 53″ x 75″

7210-01-177-3628—Mattress, Bed, Innerspring, Type II, Firm, White with Blue Stripes, 36″ x 75″

Mandatory Source(s) of Supply:

Mississippi Industries for the Blind, Jackson, MS

LC Industries, Inc., Durham, NC

Winston-Salem Industries for the Blind, Inc., Winston-Salem, NC

Lions Volunteer Blind Industries, Inc., Morristown, TN

Virginia Industries for the Blind, Charlottesville, VA

Contracting Activity: General Services Administration, Fort Worth, TX

NSN(s)—Product Name(s):

8415-00-NSH-1699—Shirt, Underwear, Lightweight Cold Weather Mock Turtle, Marine Corps, Coyote, X Small

Mandatory Source(s) of Supply: Peckham Vocational Industries, Inc., Lansing, MI

Contracting Activity: W40M NORTHEREGION CONTRACT OFC

NSN(s)—Product Name(s):

8415-01-543-7018—Trousers, ECWCS. Level 2, PCU, Army, Brown, M-L

8415-01-542-7642—Trousers, ECWCS. Level 2, PCU, Army, Brown, XS

8415-01-542-8534—Trousers, Lightweight Insulating, Level 2, ECWCS, PCU, Army, Brown, XXL

8415-01-542-8538—Trousers, Lightweight Insulating, Level 2, ECWCS, PCU, Army, Brown, XXXLL

8415-01-542-8540—Trousers, Lightweight Insulating, Level 2, ECWCS, PCU, Army, Brown, XXXL

8415-01-542-8542—Trousers, ECWCS, Insulating Level 2, PCU, Army, Brown, S

8415-01-542-8546—Trousers, Lightweight Insulating, Level 2, ECWCS, PCU, Army, Brown, L

8415-01-542-8549—Trousers, Lightweight Insulating, Level 2, ECWCS, PCU, Army, Brown, L-L

8415-01-542-8552—Trousers, Lightweight Insulating, Level 2, ECWCS, PCU, Army, Brown, XL

8415-01-542-8553—Trousers, Lightweight Insulating, Level 2, ECWCS, PCU, Army, Brown, XL-L

8415-01-542-8555—Trousers, Lightweight Insulating, Level 2, ECWCS, PCU, Army, Brown, XXLL

8415-01-542-9612—Trousers, Lightweight Combat, Level 2, ECWCS, PCU, Army, Brown, MR

8415-01-542-8545—Shirt, Lightweight, Level 2, ECWCS, PCU, Army, Long Sleeved, Brown, XXLL

8415-01-542-9576—Shirt, Lightweight, Level 2, ECWCS, PCU, Army, Long Sleeved, Brown, S

8415-01-542-9598—Shirt, Lightweight, Level 2, ECWCS, PCU, Army, Long Sleeved, Brown, M

8415-01-542-9609—Shirt, Lightweight, Level 2, ECWCS, PCU, Army, Long Sleeved, Brown, XL-L

8415-01-542-9613—Shirt, Lightweight, Level 2, ECWCS, PCU, Army, Long Sleeved, Brown, XXXL

8415-01-542-9615—Shirt, Lightweight, Level 2, ECWCS, PCU, Army, Long Sleeved, Brown, XXXLL

8415-01-542-9617—Shirt, Lightweight, Level 2, ECWCS, PCU, Army, Long Sleeved, Brown, XXL

8415-01-543-7047—Shirt, Level 2, ECWCS, PCU, Army, Long Sleeved, Brown, M-L

Mandatory Source(s) of Supply: Southeastern Kentucky Rehabilitation Industries, Inc., Corbin, KY

Contracting Activity: Army Contracting Command—Aberdeen Proving Ground, Natick Contracting Division

NSN(s)—Product Name(s):

8105-01-352-1390—Bag, Contamination

8105-01-352-1391—Bag, Contamination, 12″ x 24″

8105-01-352-1392—Bag, Contamination, 24″ x 24″

8105-01-352-1394—Bag, Contamination, 36″ x 60″

Mandatory Source(s) of Supply: Relay Resources, Portland, OR

Contracting Activity: Naval Supply Systems Command

NSN(s)—Product Name(s):

6545-00-NIB-0058—Kit, Collection, Specimen, Bag, Transparent

6545-00-NIB-0059—Kit, Collection, Specimen, Bottle, White

Mandatory Source(s) of Supply: Alphapointe, Kansas City, MO

Contracting Activity: U.S. Fleet Forces Command

NSN(s)—Product Name(s):

7510-01-584-0893—Business Card Holder, Rosewood

7520-01-554-5467—Rosewood Deluxe Office Start-Up Kit

Mandatory Source(s) of Supply: Tarrant County Association for the Blind, Fort Worth, TX

Contracting Activity: General Services Administration, New York, NY

NSN(s)—Product Name(s):

7520-01-451-9188—Pen Set, Ballpoint and Fountain, Executive, Metallic Burgundy, Medium Point

7520-01-451-9192—Pen Set, Ballpoint and Fountain, Executive, Metallic Blue, Medium Point

7510-01-451-9186—Refill, Executive Fountain Pen, Blue Ink

7510-01-451-9191—Refill, Executive Fountain Pen, Black Ink

7520-01-451-2278—Pen, Executive Fountain, Refillable, Blue Barrel, Fine Tip

7520-01-451-2274—Pen, Executive, Twist Retractable, Refillable, Navy Blue, Blue Ink, Fine Point

7520-01-451-2275—Pen, Executive, Twist Retractable, Refillable, Burgundy, Black Ink, Fine Point

7520-01-451-2276—Pen, Executive, Twist Retractable, Refillable, Gun Metal, Blue Ink, Medium Point

7520-01-451-2279—Pen, Executive, Twist Retractable, Refillable, Black, Black Ink, Medium Point

Mandatory Source(s) of Supply: Industries for the Blind, Inc., West Allis, WI

Contracting Activity: General Services Administration, New York, NY

NSN(s)—Product Name(s):

6135-01-275-1363—Battery, Non-Rechargeable, 6.0V, Alkaline, NEDA 1412A

Mandatory Source(s) of Supply: Eastern Carolina Vocational Center, Inc., Greenville, NC

Contracting Activity: Defense Logistics Agency Land and Maritime

Services

Service Type: Janitorial/Custodial Service

Mandatory for: Naval & Marine Corps Reserve Center: 1620 East Saginaw Street, Lansing, MI

Mandatory Source(s) of Supply: Peckham Vocational Industries, Inc., Lansing, MI

Contracting Activity: Dept of the Navy, Naval FAC Engineering CMD Midwest

Service Type: Janitorial/Custodial Service

Mandatory for: Atlanta Naval Air Station: 1000 Halsey Avenue, Marietta, GA

Mandatory Source(s) of Supply: Nobis Enterprises, Inc., Marietta, GA

Contracting Activity: Dept of the Navy, Naval FAC Engineering CMD

Patricia Briscoe,
Deputy Director, Business Operations (Pricing and Information Management).

[FR Doc. 2017-18094 Filed 8-24-17; 8:45 am]

BILLING CODE 6353-01-P